DEPARTMENT OF INTERIOR

Fish and Wildlife Service

Notice of Availability of the Draft Revised Recovery Plan for the Gila Trout (Oncorhynchus gilae)

AGENCY: Fish and Wildlife Service, Interior.

ACTION: Notice of document availability.

SUMMARY: The U.S. Fish and Wildlife Service (Service) announces the availability for public review of the draft Revised Recovery Plan for the Gila trout (Oncorhynchus gilae). The Gila trout is endemic to mountain streams in the Gila, San Francisco, Agua Fria, and Verde river drainages in New Mexico and Arizona. The Service solicits review and comment from the public on this draft plan.

DATES: The comment period for this proposal closes on June 10, 2002. Comments on the draft revised recovery plan must be received by the closing date.

ADDRESSES: Persons wishing to review the draft Recovery Plan can obtain a copy from the U.S. Fish and Wildlife Service, New Mexico Ecological Services Field Office, 2105 Osuna NE, Albuquerque, New Mexico, 87113. If you wish to comment, you may submit your comments and materials concerning this draft revised recovery plan to the Field Supervisor at the address above.

FOR FURTHER INFORMATION CONTACT: Field Supervisor, New Mexico Ecological Services Field Office, at the above address; telephone 505/346-2525, facsimile 505/346-2542.

SUPPLEMENTARY INFORMATION:

Background

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The Endangered Species Act of 1973 (Act), as amended (16 U.S.C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The document submitted for review is the draft revised recovery plan for the Gila trout. The species was listed as endangered on March 11, 1967, under the Federal Endangered Species Preservation Act of 1966. Federal status of the fish as endangered was continued under the Endangered Species Act of 1973.

The threats facing the survival and recovery of this species are the competition and hybridization with non-native trout species (e.g., Oncorhynchus mykiss), forest management practices, grazing management, severe drought, catastrophic wildfires, and floods. This draft Recovery Plan, when finalized, will supercede the Recovery Plan finalized for the species in 1993. The draft Recovery Plan includes new scientific information about the species gathered since 1993 and provides objectives and actions needed to downlist then delist the species. Recovery activities designed to achieve these objectives include establishing additional populations of Gila trout; protecting existing populations and habitat; continuing to obtain information needed to address conservation issues; and continuing to provide information and coordinating recovery of this species.

The draft Recovery Plan is being submitted for technical and agency review. After consideration of comments received during the review period, the Recovery Plan will be submitted for final approval.

Public Comments Solicited

The Service solicits written comments on the Recovery Plan described. All comments received by the date specified above will be considered prior to approval of the Recovery Plan.

Authority: The authority for this action is Section 4(f) of the Endangered Species Act, 16 U.S.C. 1533(f).

Dated: March 21, 2002.
Pat Langley,
Acting Regional Director.

[FR Doc. 02-8381 Filed 4-8-02; 8:45 am]

BILLING CODE 4310-55-P